GOVERNMENT ACCOUNTABILITY OFFICE

Appointments to the Medicaid and CHIP Payment and Access Commission (MACPAC)

AGENCY: Government Accountability Office (GAO).

ACTION: Notice of appointments.

SUMMARY: The Children's Health Insurance Program Reauthorization Act of 2009 established MACPAC to review Medicaid and CHIP access and payment policies and to advise Congress on issues affecting Medicaid and CHIP. The Act directs the Comptroller General to appoint MACPAC's members, with initial appointments to be made no later than January 1, 2010. The terms of MACPAC commissioners are intended to be staggered, with the first set of appointments for terms of one, two, or three years. Commissioners may be appointed for subsequent three-year terms.

DATES: Appointments are effective January 1, 2010.

ADDRESSES: GAO: 441 G Street, NW., Washington, DC 20548.

FOR FURTHER INFORMATION CONTACT: GAO: Office of Public Affairs, (202) 512-4800.

SUPPLEMENTARY INFORMATION: I am announcing the following appointments to the new Medicaid and CHIP Payment and Access Commission:

Commissioners whose first term will expire in December 2012 are Diane Rowland, ScD, (chair) Executive Vice President, Henry J. Kaiser Family Foundation and Executive Director, Kaiser Commission on Medicaid and the Uninsured; Donna Checkett, MPA, MSW, Senior Vice President of Medicaid Business Development, Aetna; Patricia Gabow, MD, Chief Executive Officer, Denver Health and Hospital Authority; Mark Hoyt, FSA, MAAA, National Practice Leader of the Government Human Services Consulting Specialty Group, Mercer, LLC; Trish Riley, MS, Director, Maine Governor's Office of Health Policy and Finance; and Steven Waldren, MD, MS, Director, Center for Health Information Technology, American Academy of Family Physicians.

Commissioners whose first term will expire in December 2011 are David Sundwall, MD, (vice chair) Executive Director, Utah Department of Health, and Commissioner of Health, State of Utah; Richard Chambers, Chief Executive Officer, CalOptima; Burton Edelstein, DDS, MPH, Professor, Clinical Dentistry, College of Dental Medicine and Clinical Health Policy and Management, Mailman School of Public Health, Columbia University; Denise Henning, CNM, MSN, Service Line Leader for Women's Health, Collier Health Services; Judith Moore, Senior Fellow, National Health Policy Forum, George Washington University; and Robin Smith, foster and adoptive parent of special needs children covered by Medicaid.

Commissioners whose first term will expire in December 2010 are Sharon L. Carte, MS, Executive Director, West Virginia Children's Health Insurance Program; Andrea Cohen, JD, Director of Health Services, NYC Office of the Deputy Mayor for Health and Human Services; Herman Gray, MD, MBA, President, Children's Hospital of Michigan and Senior Vice President, Detroit Medical Center; Norma Martinez Rogers, PhD, RN, FAAN, Professor, Department of Family Nursing, University of Texas Health Science Center at San Antonio; and Sara Rosenbaum, JD, Chair, Department of Health Policy and Harold and Jane Hirsh Professor of Health Law and Policy, The George Washington (GW) University School of Public Health and Health Services, and Professor of Health Care Sciences, GW's School of Medicine and Health Sciences.

[Sec. 506, Pub. L. 111-3, 123 Stat. 8, 91 (42 U.S.C. 1396).]

Gene L. Dodaro,
Acting Comptroller General of the United States.

[FR Doc. 2010-1371 Filed 1-22-10; 8:45 am]

BILLING CODE 1610-02-P